DEPARTMENT OF HOUSING AND URBAN DEVELOPMENT

[Docket No. FR-5759-N-08]

60-Day Notice of Proposed Information Collection: Jobs Plus Pilot Program

AGENCY: Office of the Assistant Secretary for Public and Indian Housing, PIH, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: August 4, 2014.

ADDRESSES: Interested persons are invited to submit comments regarding this proposal. Comments should refer to the proposal by name and/or OMB Control Number and should be sent to: Colette Pollard, Reports Management Officer, QDAM, Department of Housing and Urban Development, 451 7th Street SW., Room 4176, Washington, DC 20410-5000; telephone 202-402-3400 (this is not a toll-free number) or email at Colette.Pollard@hud.gov for a copy of the proposed forms or other available information. Persons with hearing or speech impairments may access this number through TTY by calling the toll-free Federal Relay Service at (800) 877-8339.

FOR FURTHER INFORMATION CONTACT: Arlette Mussington, Office of Policy, Programs and Legislative Initiatives, PIH, Department of Housing and Urban Development, 451 7th Street SW., (L'Enfant Plaza, Room 2206), Washington, DC 20410; telephone 202-402-4109, (this is not a toll-free number). Persons with hearing or speech impairments may access this number via TTY by calling the Federal Relay Service at (800) 877-8339. Copies of available documents submitted to OMB may be obtained from Ms. Mussington.

SUPPLEMENTARY INFORMATION: This notice informs the public that HUD is seeking approval from OMB for the information collection described in Section A.

A. Overview of Information Collection

The Jobs Plus Pilot Program Information Collection represents a new information request. The OMB approval number for this collection is pending. The information provided by the eligible applicants will be reviewed and evaluated by HUD. The information to be collected by HUD will be used to preliminarily rate applications, to determine eligibility for the Jobs Plus Pilot Grant Competition and to establish grant amounts. The Jobs Plus Pilot Grant Competition Application will be used to determine eligibility and funding for recipients. Respondents of this information collection will be public housing agencies. Forms for this information collection are under development, however it is anticipated that applicants will provide quantitative and qualitative data as well as narrative information for evaluation.

Description of Information Collection | Number of respondents | Responses per year | Total annual responses | Hours per response | Total hours
SF424—Application for Federal Assistance | 350 | 1 | 350 | 0.50 | 175
SF LLL—Disclosure of Lobbying Activities | 350 | 1 | 350 | 0.50 | 175
SF 425—Federal Financial Report | 350 | 1 | 350 | 0.50 | 175
HUD 2880—Applicant/Recipient/Disclosure/Update Form (OMB No. 2510-0011) | 350 | 1 | 350 | 0.50 | 175
HUD 96011—Facsimile Transmittal (OMB No. 2535-0118) | 350 | 1 | 350 | 0.50 | 175
HUD-2991—Certification of Consistency with the Consolidated Plan (OMB No. 2506-0112) | 350 | 1 | 350 | 0.50 | 175
Sample Budget/Matching Form | 350 | 1 | 350 | 1 | 350
Jobs Plus Pilot Application—Narrative(Strategy, Approach, Capacity) | 350 | 1 | 350 | 24 | 8400
HUD 96010—Logic Model (OMB No. 2535-0114) | 350 | 1 | 350 | 3 | 1050
Subtotal (Application) |  |  |  | 31 | 10,850
Partnership Agreement (American Job Center ) | 12 | 1 | 12 | 1 | 12
Budget Worksheet | 12 | 1 | 12 | 1 | 12
HUD-1044—Grant Agreement* | 12 | 1 | 12 | 1 | 12
Annual Performance Report (Narrative and Data)—Quarterly | 12 | 4 | 48 | 1 | 192
HUD-50058—Family Report (OMB No. 2577-0083) | 12 | 1 | 12 | 1 | 12
Subtotal (Program Reporting/Recordkeeping) |  |  |  | 5 | 240
Total |  |  |  | 36 | 11,090

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35.

Dated: May 27, 2014.
Merrie Nichols-Dixon,
Deputy Director, Office of Policy, Programs and Legislative Initiatives.

[FR Doc. 2014-12729 Filed 6-2-14; 8:45 am]

BILLING CODE 4210-67-P